DEPARTMENT OF THE TREASURY

Submission for OMB Review; Comment Request

August 31, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 16, 2000, to be assured of consideration.

Internal Revenue Service (IRS)

OMB Number: 1545-0118.

Form Number: IRS Form 1099-PATR.

Type of Review: Extension.

Title: Taxable Distributions Received From Cooperatives.

Description: Form 1099-PATR is used to report patronage dividends paid by cooperatives (Internal Revenue Code section 6044). The information is used by IRS to verify reporting compliance on the part of the recipient.

Respondents: Business or other for-profit.

Estimated Number of Respondents/Recordkeepers: 4,200.

Estimated Burden Hours Per Respondent/Recordkeeper: 15 minutes.

Estimated Total Reporting/Recordkeeping Burden: 509,895 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports, Management Officer.

[FR Doc. 00-23559 Filed 9-13-00; 8:45 am]

BILLING CODE 4830-01-U